DEPARTMENT OF COMMERCE

International Trade Administration

Proposed Methodology for Respondent Selection in Antidumping Proceedings; Request for Comment

AGENCY: Import Administration, International Trade Administration, Department of Commerce.

SUMMARY: The Department of Commerce (“the Department”) seeks public comment on its proposed methodology for respondent selection and related issues.

DATES: To be assured of consideration, comments must be received no later than January 18, 2011.

FOR FURTHER INFORMATION CONTACT: Albert Hsu, Senior Economist, Office of Policy, Import Administration, U.S. Department of Commerce, 14th Street and Constitution Avenue, NW., Washington, DC 20230; telephone: (202) 482-4491.

SUPPLEMENTARY INFORMATION:

Background

When the number of producers/exporters (“companies”) involved in an antidumping investigation or review is so large that the Department finds it impracticable to examine each company individually, the Department has statutory authority to limit its examination to (1) a sample of exporters, producers, or types of products that is statistically valid based on the information available to the administering authority at the time of selection, or (2) exporters and producers accounting for the largest volume of subject merchandise from the exporting country that can be reasonably examined (see sections 777A(c)(2)(A) and (B) of the Tariff Act of 1930, as amended (“the Act”)). The Department has, to date, used the second option in virtually every one of its proceedings. A consequence of this practice is that companies under investigation or review with relatively smaller import volumes have typically not been selected by the Department for individual examination.

Sampling companies with varying import volumes under section 777A(c)(2)(A) of the Act is one way to remedy this problem. If the Department were to select respondents on the basis of a sample, the statute requires that the sample be “statistically valid.” The Department has interpreted this requirement as referring to the manner in which the Department selects respondents and not to the size of the sample or precision of the sample results. See Brake Rotors From the People's Republic of China: Final Results and Partial Rescission of the 2004/2005 Administrative Review and Notice of Rescission of 2004/2005 New Shipper Review 71 FR 66304 (Nov. 14, 2006), and accompanying Issues and Decision Memorandum at Comment 1A.

Therefore, to ensure the statistical validity of the samples, in the methodology described below, the Department proposes to employ a sampling technique that (1) is random, (2) is stratified, and (3) uses probability-proportional-to-size (“PPS”) samples. Random selection ensures that every company has a chance of being selected as a respondent and captures potential variability across the population. Stratification by import volume ensures the participation of companies of different import volume in the investigation or review, given the small samples that would be used. Finally, PPS samples ensure that the probability of each company being chosen as a respondent is proportional to its share of imports in its respective stratum.

Proposed Methodology

1.1 When To Sample

Given the benefits of sampling described above, where possible, the Department proposes to use sampling to select respondents rather than limiting its examination to companies accounting for the largest import volume that can be reasonably examined. However, the Department will, in general, forgo sampling under the following circumstances: (1) If, due to resource constraints, the Department is unable to examine at least three companies, (2) when the largest companies by import volume account for at least 75 percent of total imports, or (3) when characteristics of the underlying population make it highly likely that results obtained from the largest possible sample, given resource constraints, would be unreasonable to represent the population.

To make a determination under (3) above, for a segment of a proceeding in which the Department intends to apply sampling for respondent selection, the Department proposes to announce a ten-day period for interested parties to comment on the existence of significant variation in company characteristics that are likely to have a substantial effect on the variation in dumping margins of the companies in the population in question. The comments can take into account sampled company margins from previous segments of the proceeding, if such data exist, that may indicate significant variation in the individual margins of sampled companies. If the Department receives any comment, there will be a five-day rebuttal period before the Department announces its decision on the respondent selection method for that segment of the proceeding. If the Department does not find that selecting respondents through sampling is appropriate for that particular segment based on information and comments on the record at the time of respondent selection, the Department will choose as respondents those companies accounting for the largest import volume that can be reasonably examined, in accordance with section 777A(c)(2)(B) of the Act.

1.2 Definition of Population

Currently, the Department generally chooses companies for individual examination based on import volumes reported in case-specific Customs and Border Protection (“CBP”) import data. It also assigns an antidumping duty rate to all other companies that are not selected for individual examination. The Department currently does not require any evidence of shipment from a non-selected company before making its respondent-selection decision. However, in the sampling context, the existence of shipments will be required in order to both define the population, and if the company is selected, establish a dumping margin for the company. Therefore, the Department will normally use CBP data as evidence of shipment, and proposes to define the relevant population from which to sample as (1) all companies subject to investigation with shipments of subject merchandise, and (2) all companies named in a review with shipments of subject merchandise.

In a non-market economy (“NME”) case, the relevant population should not include companies that are a part of the NME entity. Since the Department may not be able to determine a company's eligibility for a separate rate before respondent selection, the Department proposes to exclude from the relevant population companies that have not submitted separate rate applications.

1.3 Sampling Technique

The Department proposes to use stratified PPS samples. The first step in the proposed sampling technique is to sort all companies in the relevant population from largest to smallest, based on import volumes. Second, companies would be segregated into a number of strata equal to the sample size, with each stratum accounting for approximately the same share of import volume. For example, if the Department determines that it may individually examine three respondents, the companies would be divided into three strata, each accounting for approximately a third of imports. Third, one respondent from each stratum would be selected using PPS. If a single company accounts for more than 33 percent or more of imports, that company would be assigned its own stratum and the remaining companies would be divided into two strata accounting for an equal share of the remaining imports. Then, one respondent would be selected from each of these strata. If two companies each account for more than 33 percent or more of imports, each of the two companies would be assigned its own stratum and one respondent would be randomly selected from the remaining companies.

1.4 Calculating and Assigning Rates

After examination of selected respondents by the sampling method, the Department will need to assign a rate to all non-selected companies. To do so, the Department proposes to calculate a “sample rate,” which will be an average of all selected respondent rates, weighted by the import share of their corresponding strata. In a market economy case, all companies in the relevant population who were not selected for individual examination would receive the sample rate. Consistent with the definition of “relevant population” above, in NME cases, only companies in the relevant population that qualify for separate rates would receive the sample rate; those that do not qualify for separate rates would receive the NME country-wide rate.

Request for Comments

In addition to comments on the methodology described above, the Department requests comments on the following issues. First, how should the Department address the case in which a selected respondent needs to be replaced, due to withdrawal or disqualification for any reason? Examples of disqualified respondents include companies in an NME case that applied for a separate rate but do not qualify for such a rate, and companies with shipment of subject merchandize in CBP data due to misclassification. Second, how should the Department treat voluntary respondents in the sampling context? Finally, how should the Department treat adverse-facts-available, de minimis, and zero antidumping duty rates in its calculation of the sample rate?

Submission of Comments

As specified above, to be assured of consideration, comments must be received no later than January 31, 2011. All comments must be submitted through the Federal eRulemaking Portal at http://www.regulations.gov, Docket No. ITA-2010-0009, unless the commenter does not have access to the Internet. Commenters that do not have access to the Internet may submit the original and two copies of each set of comments by mail or hand delivery/courier. All comments should be addressed to the Secretary of Commerce, Attention: Albert Hsu, Senior Economist, Office of Policy, Room 1870, Import Administration, U.S., Department of Commerce, 14th Street and Constitution Ave., NW., Washington, DC 20230.

The Department will consider all comments received before the close of the comment period. The Department will not accept comments accompanied by a request that part or all of the material be treated confidentially because of its business proprietary nature or for any other reason. All comments responding to this notice will be a matter of public record and will be available for inspection at Import Administration's Central Records Unit (Room 7046 of the Herbert C. Hoover Building) and on the Department's Web site at http://www.trade.gov/ia/.

Any questions concerning file formatting, document conversion, access on the Internet, or other electronic filing issues should be addressed to Andrew Lee Beller, Import Administration Webmaster, at (202) 482-0866, e-mail address: webmaster-support@ita.doc.gov.

Dated: December 10, 2010.
Ronald K. Lorentzen,
Deputy Assistant Secretary for Import Administration.

[FR Doc. 2010-31643 Filed 12-15-10; 8:45 am]

BILLING CODE 3510-DS-P